COMMISSION ON CIVIL RIGHTS

Agenda and Notice of Public Meeting of the Mississippi Advisory Committee

Notice is hereby given, pursuant to the provisions of the rules and regulations of the U.S. Commission on Civil Rights, that a factfinding meeting of the Mississippi Advisory Committee to the Commission will convene at 4 p.m. and recess at 9 p.m. on Wednesday, October 9, 2002, at the State Capitol, 400 High Street, Room 216, Jackson, Mississippi 39201. The Committee will reconvene at 9:15 a.m. and adjourn at 7:15 p.m. on Thursday, October 10, 2002, at the State Capitol, Room 113. The purpose of the two-day factfinding meeting is to discuss the need to establish a state civil rights agency that would enforce laws that are substantially equivalent to federal civil rights laws. On Friday, October 11, 2002, the Committee will convene at 12 p.m. and adjourn at 3 p.m. at the Hilton Hotel, 1001 East County Line Rd., Jackson, MS, to plan future activities.

Persons desiring additional information, or planning a presentation to the Committee, should contact Melvin L. Jenkins, Director of the Central Regional Office, 913-551-1400 (TDD 913-551-1414). Hearing-impaired persons who will attend the meeting and require the services of a sign language interpreter should contact the Regional Office at least ten (10) working days before the scheduled date of the meeting.

The meeting will be conducted pursuant to the provisions of the rules and regulations of the Commission.

Dated at Washington, DC, September 17, 2002.
Ivy L. Davis,
Chief, Regional Programs Coordination Unit.

[FR Doc. 02-24176 Filed 9-23-02; 8:45 am]

BILLING CODE 6335-01-P